DEPARTMENT OF THE INTERIOR

National Park Service

National Register of Historic Places; Notification of Pending Nominations and Related Actions

Nominations for the following properties being considered for listing or related actions in the National Register were received by the National Park Service before September 2, 2006. Pursuant to section 60.13 of 36 CFR Part 60 written comments concerning the significance of these properties under the National Register criteria for evaluation may be forwarded by United States Postal Service, to the National Register of Historic Places, National Park Service, 1849 C St., NW., 2280, Washington, DC 20240; by all other carriers, National Register of Historic Places, National Park Service, 1201 Eye St., NW., 8th floor, Washington, DC 20005; or by fax, 202-371-6447. Written or faxed comments should be submitted by October 4, 2006.

John W. Roberts,
Acting Chief, National Register/National Historic Landmarks Program.

ARIZONA

Pima County

DeGrazia Gallery in the Sun Historic District, 6300 N. Swan Rd., Tucson, 06000932.

COLORADO

Larimer County

Snogo Snow Plow, Rocky Mountain National Park, Estes Park, 06000934.

HAWAII

Maui County

Maui High School Administration Building, 100 Holomua Rd., Paia, 06000933.

INDIANA

Ohio County

Rising Sun Historic District, Roughly bounded by the Union and Soldier's Cemeteries, High St., Front St., and Maiden Ln., Rising Sun, 06000935.

MASSACHUSETTS

Berkshire County

Montville Baptist Church, 5 Hammertown Rd., Sandisfield, 06000936.

MONTANA

Flathead County

Bruyer Granary, 1355 Whitefish Stage Rd., Kalispell, 06000937.

OREGON

Klamath County

Bisbee Hotel, 229 S. 6th St., Klamath Falls, 06000938.

WYOMING

Laramie County

Cheyenne South Side Historic District, Roughly bounded by Warren Ave., Russell Ave., E. Tenth St., and E Fifth St., Cheyenne, 06000939.

A request for REMOVAL has been made for the following resource:

IOWA

Johnson County

Opera House Block, 210-212 S. Clinton St. Iowa City, 78001228.

[FR Doc. E6-15497 Filed 9-18-06; 8:45 am]

BILLING CODE 4312-51-P